DEPARTMENT OF COMMERCE

National Oceanic and Atmospheric Administration

RIN 0648-XG801

Western Pacific Fishery Management Council; Public Meetings

AGENCY: National Marine Fisheries Service (NMFS), National Oceanic and Atmospheric Administration (NOAA), Commerce.

ACTION: Notice of public meetings, hearings, and a partially closed meeting.

SUMMARY: The Western Pacific Fishery Management Council (Council) will hold its 131st Scientific and Statistical Committee (SSC) meeting, Joint Advisory Panel (AP) meeting, 176th Council meeting and its associated meetings to take actions on fishery management issues in the Western Pacific Region. A portion of the Council's Executive, Budget and Legislative Standing Committee meeting will be closed to the public.

DATES: The meetings will be held between March 12 and March 21, 2019. For specific times and agendas, see SUPPLEMENTARY INFORMATION.

ADDRESSES: The 131st SSC, Joint AP, the Council's Executive, Budget and Legislative Standing Committee and Pelagic and International Standing Committee meetings will be held at the Council office, 1164 Bishop Street, Suite 1400, Honolulu, HI 96813, phone: (808) 522-8220. The 176th Council meeting will be held at the Laniakea YWCA, Fuller Hall, 1040 Richards Street, Honolulu, HI 96813, phone: (808) 538-7061. The Fishers Forum will be held at the Ala Moana Hotel, 410 Atkinson Dr., Honolulu, HI 96814, phone: (808) 955-4811.

FOR FURTHER INFORMATION CONTACT: Kitty M. Simonds, Executive Director, Western Pacific Fishery Management Council; phone: (808) 522-8220.

SUPPLEMENTARY INFORMATION: The 131st SSC meeting will be held between 8:30 a.m. and 5 p.m. on March 12-14, 2019. The Joint AP Meeting will be held between 8 a.m. and 5 p.m. on March 15-16, 2019. The Executive, Budget and Legislative Standing Committee meeting will be held on March 18, 2019, from 9 a.m. to 12 noon. The portion of the Executive, Budget and Legislative Standing Committee meeting from 9:30 a.m. to 10 a.m. will be closed to the public in accordance with Section 302(i)(3)(ii) of the Magnuson-Stevens Fishery Conservation and Management Act (MSA) for a briefing on litigation by counsel. The Pelagic and International Standing Committee will be held on March 18, 2019, between 2 p.m. and 5 p.m. The 176th Council meeting will be held between 8:30 a.m. and 5 p.m. on March 19-21, 2019. On March 19, 2019, the Council will host a Fishers Forum between 6 p.m. and 9 p.m.

Agenda items noted as “Final Action Items” refer to actions that result in Council transmittal of a proposed fishery management plan, proposed plan amendment, or proposed regulations to the U.S. Secretary of Commerce, under Sections 304 or 305 of the MSA. In addition to the agenda items listed here, the Council and its advisory bodies will hear recommendations from Council advisors. An opportunity to submit public comment will be provided throughout the agendas. The order in which agenda items are addressed may change and will be announced in advance at the Council meeting. The meetings will run as late as necessary to complete scheduled business. Background documents will be available from, and written comments should be sent to, Kitty M. Simonds, Executive Director; Western Pacific Fishery Management Council, 1164 Bishop Street, Suite 1400, Honolulu, HI 96813, phone: (808) 522-8220 or fax: (808) 522-8226.

Agenda for 131st SSC Meeting

Tuesday, March 12, 2019, 8:30 a.m. to 5 p.m.

1. Introductions

2. Approval of Draft Agenda and Assignment of Rapporteurs

3. Status of the 130th SSC Meeting Recommendations

4. Remarks from the NOAA Fisheries Director of Scientific Programs and Chief Science Advisor

5. Report from the Pacific Islands Fisheries Science Center Director

A. Status of Council Research Priority for the FY 2020 Annual Guidance Memo

6. Program Planning and Research

A. SSC Responsibilities in the Modern Fish Act

B. Magnuson-Stevens Reauthorization Act (MSRA) Five Year Research Priority 2020-24

C. NOAA Climate Science Workshop and Regional Action Plan Report

D. Public Comment

E. SSC Discussion and Recommendations

7. Island Fisheries

A. Main Hawaiian Islands (MHI) Kona Crab Benchmark Stock Assessment Western Pacific Stock Assessment Review (WPSAR) Report

B. Benchmark Stock Assessment for the MHI Kona Crab with Catch Projections for 2020-24

C. Public Comment

D. SSC Discussion and Recommendations

8. Protected Species

A. Discussion Paper on Seabird Bycatch Mitigation Measures

B. Status of the False Killer Whale Take Reduction Team (FKWTRT) Recommendations

C. Updates on Endangered Species Act (ESA) and Marine Mammal Protection Act (MMPA) Actions

D. Public Comment

E. SSC Discussion and Recommendations

Wednesday, March 13, 2019, 8:30 a.m. to 5 p.m.

Plenary Presentation by Ray Hilborn—Blue Ocean Marine Protected Area

9. SSC Concurrent Work Session

A. Developing a Road Map for Effective Fishery Spatial Management

B. Developing a Process to Comply with the Modern Fish Act

C. Review of Draft Biological Opinion

10. Pelagic Fisheries

A. Updates to the Pelagic Fisheries Research Program

B. American Samoa Longline Annual Fishery Report

C. Hawaii Longline Annual Fishery Report

D. Hawaii Shallow-set Longline Fishery

1. Status of the Hawaii Shallow-set Longline ESA Consultation

2. Managing Loggerhead and Leatherback Sea Turtle Interactions in the Hawaii-based Shallow-set Longline Fishery (Action Item)

E. US Participating Territory Longline Bigeye Specifications (Action Item)

F. Maturity, Age, and Growth of Central North Pacific Striped Marlin

G. International Fisheries Meetings

1. Inter-American Tropical Tuna Commission (IATTC) Tuna Growth Workshop

2. IATTC Abundance Indices and Tagging Workshops

3. 15th Regular Session of the Western Central Pacific Fisheries Commission (WCPFC)

4. 2018 Workshop on Identifying the Spatial Stock Structure of Tropical Pacific Tuna Stocks

5. North Pacific Fisheries Commission (NPFC)

6. South Pacific Regional Fisheries Management Organization (SPRFMO)

H. Public Comment

I. SSC Discussion and Recommendations

Thursday, March 14, 2019, 8:30 a.m. to 5 p.m.

11. Other Business

A. 132nd SSC Meetings Dates

B. Council's Five Year Program Plan

C. SSC Three-Year Plan (2020-22)

D. National Scientific Coordinating Subcommittee Meeting 2020

12. Summary of SSC Recommendations to the Council

Agenda for the Joint Advisory Panel Meeting

Friday, March 15, 2019, 8 a.m. to 5 p.m.

1. Welcome and Introductions

2. Review of Agenda

3. FISH 101 Training

Saturday, March 16, 2019, 8 a.m. to 5 p.m.

4. Spatial Management

A. Biodiversity Beyond National Jurisdiction (BBNJ)

B. Palmyra Project

5. Workshop Discussion on Fishery Management Measures

A. What Works

B. What Doesn't

6. Report on Progress of Advisory Panel Plans

A. American Samoa

i. Plan Progress

ii. Additional Issues

B. Commonwealth of the Northern Mariana Islands (CNMI)

i. Plan Progress

ii. Additional Issues

C. Guam

i. Plan Progress

ii. Additional Issues

D. Hawaii

i. Plan Progress

ii. Additional Issues

7. Public Comment

8. Discussion and Recommendations

9. Other Business

Agenda for the Executive, Budget and Legislative Standing Committee

Monday, March 18, 2019, 9 a.m. to 12 Noon

1. Financial Reports

2. Administrative Reports

3. CLOSED SESSION (MSA § 302(i)(3)(A)(ii)—Status of Litigation 9:30 a.m. to 10 a.m.

4. 2020-24 Program Plan and Budget

5. Council Family Changes

6. SSC role under new Modernization Act

7. NOAA website/Pacific Islands Section

8. Recusal Policy

9. Meetings and Workshops

10. Other Issues

11. Public Comment

12. Discussion and Recommendations

Agenda for the Pelagic and International Standing Committee

Monday, March 18, 2019, 2 p.m. to 5 p.m.

1. Introduction and Opening of Committee Meeting

2. Managing Loggerhead and Leatherback Sea Turtle Interactions in the Hawaii-based Shallow-set Longline Fishery (Action Item)

3. US Participating Territory Longline Bigeye Limits (Action Item)

4. Advisory Group Report and Recommendations

A. Scientific & Statistical Committee

5. Other Issues

6. Public Comment

7. Committee Discussion and Action

Agenda for 176th Council Meeting

Tuesday, March 19, 2019, 8:30 a.m. to 5 p.m.

1. Welcome and Introductions

2. Approval of the 176th Agenda

3. Approval of the 174th and 175th Meeting Minutes

4. Executive Director's Report

5. Agency Reports

A. National Marine Fisheries Service

1. Pacific Islands Regional Office

2. Pacific Islands Fisheries Science Center

a. Status of Council Research Priority for the FY 2020 Annual Guidance Memo

B. NOAA Office of General Counsel, Pacific Islands Section

C. U.S. State Department

D. U.S. Fish and Wildlife Service

E. Enforcement

1. U.S. Coast Guard

2. NOAA Office of Law Enforcement

3. NOAA Office of General Counsel, Enforcement Section

F. Public Comment

G. Council Discussion and Action

6. Hawaii Archipelago & Pacific Remote Island Areas

A. Moku Pepa

B. Legislative Report

C. Enforcement Issues

D. Bottomfish Restricted Fishing Areas Removal Report

E. MHI Kona Crab Benchmark Stock Assessment WPSAR Report

F. Benchmark Stock Assessment for the MHI Kona Crab with Catch Projections for 2020-24

G. Hawaii Charter Fishery Cost Earning Survey (2012) Report

H. Registry Permit License Study Group Meeting Report

I. Education and Outreach Initiatives

J. Advisory Group Report and Recommendations

1. Advisory Panel

2. Scientific & Statistical Committee

K. Public Comment

L. Council Discussion and Action

7. Protected Species

A. Discussion Paper on Seabird Bycatch Mitigation Measures

B. Status of the FKWTRT Recommendations

C. Updates on ESA and MMPA Actions

D. Advisory Group Report and Recommendations

1. Advisory Panel

2. Scientific & Statistical Committee

E. Public Comment

F. Council Discussion and Action

Tuesday, March 19, 2019, 4 p.m.

Public Comment on Non-agenda Items

Tuesday, March 19, 2019, 6 p.m.-9 p.m.

Fishers Forum

Wednesday, March 20, 2019, 8:30 a.m.-5 p.m.

9. Program Planning and Research

A. Legislative Report

B. SSC Working Group Report

1. Blue Ocean Marine Protected Area Subgroup Report

2. Modern Fish Act Subgroup Report

C. MSRA Five Year Research Priority 2020-24

D. NOAA Climate Science Workshop and Regional Action Plan Reports

E. Regional, National and International Outreach & Education

F. Advisory Group Report and Recommendations

1. Advisory Panel

2. Scientific & Statistical Committee

G. Public Comment

H. Council Discussion and Action

10. Pelagic & International Fisheries

A. American Samoa Longline Annual Fisheries Report

B. Hawaii Longline Annual Fishery Report

C. Hawaii Shallow-Set Longline Fishery

1. Status of the Hawaii Shallow-set Longline ESA Consultation

2. Managing Loggerhead and Leatherback Sea Turtle Interactions in the Hawaii-based Shallow-set Longline Fishery (Final Action Item)

D. US Participating Territory Longline Bigeye Limits (Final Action Item)

E. International Fisheries

1. IATTC

a. Tuna Growth Workshop

b. Tuna Stock Assessment Workshop

2. WCPFC15

3. 2018 Workshop on Identifying the Spatial Stock Structure of Tropical Pacific Tuna Stocks

4. NPFC

5. 7th Meeting- SPRFMO

6. United Nations Intergovernmental Conference on BBNJ

F. Advisory Group Report and Recommendations

1. Advisory Panel

2. Scientific & Statistical Committee

G. Standing Committee Recommendations

H. Public Hearing

I. Council Discussion and Action

11. American Samoa Archipelago

A. Motu Lipoti

B. Fono Report

C. Enforcement Issues

D. Community Activities and Issues

E. Education and Outreach Initiatives

F. Marine Conservation Plan Projects

G. Advisory Group Report and Recommendations

1. Advisory Panel

2. Scientific & Statistical Committee

H. Public Comment

I. Council Discussion and Action

Thursday, March 21, 2019, 8:30 a.m. to 5 p.m.

12. Mariana Archipelago

A. Guam

1. Isla Informe

2. Legislative Report

3. Enforcement Issues

4. Mandatory Permit and Licensing Regulation

5. Community Activities and Issues

6. Education and Outreach Initiatives

B. CNMI

1. Arongol Falú

2. Legislative Report

3. Enforcement Issues

4. Community Activities and Issues

a. Bottomfish Fishery Development Project

b. Mandatory License and Reporting Regulation

5. Education and Outreach Initiatives

C. Marianas Shark Research Project

D. Update on Marianas Trench Marine National Monument Management Plan and Sanctuary Request

E. Advisory Group Reports and Recommendations

1. Advisory Panel

2. Scientific & Statistical Committee

F. Public Comment

G. Council Discussion and Action

13. Administrative Matters

A. Financial Reports

B. Administrative Reports

C. 2020-24 Program Plan and Budget

D. Council Family Changes

a. Advisory Panel

b. Plan Team

c. Education Committee

d. Marine Planning and Climate Change Committee

e. Fishery Data Collection and Research Committee

f. Protected Species Advisory Committee

E. Conflict of Interest and Recusal Policy

F. Meetings and Workshops

G. Standing Committee Recommendations

H. Public Comment

I. Council Discussion and Action

14. Other Business

Non-emergency issues not contained in this agenda may come before the Council for discussion and formal Council action during its 176th meeting. However, Council action on regulatory issues will be restricted to those issues specifically listed in this document and any regulatory issue arising after publication of this document that requires emergency action under section 305(c) of the Magnuson-Stevens Act, provided the public has been notified of the Council's intent to take action to address the emergency.

Special Accommodations

These meetings are accessible to people with disabilities. Requests for sign language interpretation or other auxiliary aids should be directed to Kitty M. Simonds, (808) 522-8220 (voice) or (808) 522-8226 (fax), at least 5 days prior to the meeting date.

Authority: 16 U.S.C. 1801 et seq.

Dated: February 8, 2019.
Tracey L. Thompson,
Acting Deputy Director, Office of Sustainable Fisheries, National Marine Fisheries Service.

[FR Doc. 2019-02169 Filed 2-12-19; 8:45 am]

BILLING CODE 3510-22-P